DEPARTMENT OF ENERGY

Office of Energy Efficiency and Renewable Energy

[Docket No. EERE-2014-BT-BC-0017]

DOE Building Energy Codes Program Stakeholder Meeting

AGENCY: Office of Energy Efficiency and Renewable Energy, Department of Energy.

ACTION: Notice of public meeting.

SUMMARY: The DOE Building Energy Codes Program will host an upcoming public meeting to provide stakeholders with an update on program direction. DOE will present an overview of current activities and program organization in support of its mission to achieve energy savings through the development and implementation of building energy codes. DOE will solicit public comment and discussion surrounding information presented.

DATES: DOE will hold a public meeting on Thursday, April 24, 2014, from 8:00 a.m. to 3:30 p.m. in Arlington, VA. Advance registration is required. Parties who wish to submit official comments following the meeting must do so by May 30, 2014.

ADDRESSES: The public meeting will be held at the DoubleTree Hotel—Crystal City, 300 Army Navy Drive, Arlington, VA 22203. To participate in the meeting, please submit an official request to BuildingEnergyCodes@ee.doe.gov, including attendee name and organizational affiliation.

Comments from the public will be accepted at the meeting. Additionally, following the meeting, a docket will be made available to accept public comment on topics discussed at the stakeholder meeting. Interested parties may submit comments by any of the following methods:

• Email: AprilBldgCodesMtg2014BC0017@ee.doe.gov. Include “April 2014 Building Energy Codes Stakeholder Meeting” in the subject line of the message.

• Federal eRulemaking Portal: www.regulations.gov. Follow the instructions for submitting comments.

• Postal Mail: Ms. Brenda Edwards, U.S. Department of Energy, Building Technologies Office EE-5B, 1000 Independence Avenue SW., Washington, DC 20585-0121. Phone: (202) 586-2945. Please submit one signed paper original.

• Hand Delivery/Courier: Ms. Brenda Edwards, U.S. Department of Energy, Building Technologies Office, 950 L'Enfant Building, 6th floor, Room 6052, 950 L'Enfant Plaza SW., Washington, DC 20024. Phone: (202) 586-2945. Please submit one signed paper original.

Instructions: All submissions must include the agency name, U.S. Department of Energy, and docket number EERE-2014-BT-BC-0017.

Docket: The docket is available for public review at www.regulations.gov. All documents in the docket are listed in the index. A link to the docket Web page can be found at http://www.regulations.gov/#!docketDetail;D=EERE-2014-BT-BC-0017. The Regulations.gov Web site contains instructions on how to access all documents, including public comments, in the docket.

FOR FURTHER INFORMATION CONTACT:

Jeremiah Williams, U.S. Department of Energy, Office of Energy Efficiency and Renewable Energy, Building Technologies Office, Mailstop EE-5B, 1000 Independence Ave. SW., Washington, DC 20585-0121, Telephone: (202) 287-1941, Email: jeremiah.williams@ee.doe.gov.

Ami Grace-Tardy, U.S. Department of Energy, Office of the General Counsel, Forrestal Building, Mailstop GC-71, 1000 Independence Ave. SW., Washington, DC 20585, Telephone: (202) 586-5709, Email: ami.grace-tardy@hq.doe.gov.

SUPPLEMENTARY INFORMATION: The public meeting announced in today's notice is for the DOE Building Energy Codes Program to present and receive comments on its overall program direction and in anticipation of its future residential code development activities. DOE will present an overview of current program activities and organization in support of its mission to achieve energy savings through building energy codes. In addition, DOE seeks stakeholder input in anticipation of future residential code development activities. DOE will solicit public comment and discussion surrounding information presented.

There will be two sessions held:

1. General Program Input (8:00a-12:00p): This is a general session during which the program will present its current and future plans. Please bring concrete, actionable ideas regarding what activities the program should undertake.

2. Residential Code Development (1:00p-3:30p): This is a meeting in anticipation of DOE activities surrounding the 2018 International Energy Conservation Code (IECC). The Department is seeking stakeholder input into how it should participate in model code development activities, as administered by the International Code Council (ICC), as well as comments regarding the future direction of the residential model energy code.

To participate in the meeting, please submit an official request as outlined in the ADDRESSES section of this Notice. Note that space is limited and advanced registration is required. Requests will be honored in the order they are received. A meeting agenda and other related materials will be made available at www.energycodes.gov/events. Please check this location for additional information in anticipation of the stakeholder meeting, and for additional instructions following the event.

Issued in Washington, DC, on April 7, 2014.
Jeremiah Williams,
Acting Program Manager, Building Energy Codes, Building Technologies Office, Energy Efficiency and Renewable Energy.

[FR Doc. 2014-08216 Filed 4-10-14; 8:45 am]

BILLING CODE 6450-01-P